BROADCASTING BOARD OF GOVERNORS

Sunshine Act Meeting; Notice of Meeting of the Broadcasting Board of Governors

DATE AND TIME: Friday, April 20, 2012, 10 a.m.

PLACE: Office of Cuba Broadcasting, 4201 NW. 77th Ave., Miami, FL 33166.

SUMMARY: The Broadcasting Board of Governors (BBG) will be meeting at the time and location listed above. At the meeting, the BBG will consider a resolution to thank Ambassador Kathleen Stephens for her service on the Board as the President's nominee to be Under Secretary has received Senate confirmation. The BBG will receive a status report on the consolidation transaction plan for BBG-sponsored grantees. The BBG will receive and consider a progress report from the Strategy and Budget Committee on the implementation of the BBG strategy and a report from the Governance Committee regarding proposed amendments to BBG By-Laws as well as the results of March 9 Governance Committee Meeting on employee morale and contractor issues. The BBG will receive an Asia trip report and a budget update. The BBG will receive reports from the International Broadcasting Bureau Director, the VOA Director, the Office of Cuba Broadcasting Director, and the Presidents of Radio Free Europe/Radio Liberty, Radio Free Asia, and the Middle East Broadcasting Networks.

The public may attend this meeting as seating capacity allows. Member of the public seeking to attend the meeting in person must register at http://bbg.eventbrite.com/by April 17. For more information, please contact BBG Public Affairs at (202) 203-4400; Email: pubaff@bbg.gov. This meeting is also available for public observation via streamed webcast, both live and on-demand, on the BBG's public Web site at www.bbg.gov.

CONTACT PERSON FOR MORE INFORMATION: Persons interested in obtaining more information should contact Paul Kollmer-Dorsey at (202) 203-4545.

Paul Kollmer-Dorsey,
Deputy General Counsel.

[FR Doc. 2012-9299 Filed 4-13-12; 11:15 am]

BILLING CODE 8610-01-P